DEPARTMENT OF HOUSING AND URBAN DEVELOPMENT

[Docket No. FR-6380-N-02]

Tribal Intergovernmental Advisory Committee (TIAC) Spring Meeting

AGENCY: Office of Assistant Secretary for Public and Indian Housing, HUD.

ACTION: Notice.

SUMMARY: This notice announces the next meeting of HUD's TIAC.

DATES: The meeting will be held on Wednesday, May 15, 2024, and Thursday, May 16, 2024. On each day, the session will begin at approximately 9:00 a.m. (ET) and adjourn at approximately 5:00 p.m. (ET).

ADDRESSES: The meeting will take place at the HUD Headquarters Building, 451 7th Street SW, Washington, DC 20410.

FOR FURTHER INFORMATION CONTACT: Heidi Frechette, Deputy Assistant Secretary for Native American Programs, Office of Public and Indian Housing, Department of Housing and Urban Development, 451 Seventh Street SW, Room 4108, Washington, DC 20410, telephone number 202-401-7914 (this is not a toll-free number). HUD welcomes and is prepared to receive calls from individuals who are deaf or hard of hearing, as well as individuals with speech or communication disabilities. To learn more about how to make an accessible call, please visit https://www.fcc.gov/consumers/guides/telecomunicationsrelay-service-trs.

SUPPLEMENTARY INFORMATION:

I. Background

On March 31, 2022, HUD published a notice (87 FR 18807) in the Federal Register that announced the final structure of the TIAC and requested the submission of Tribal nominations to the TIAC. On November 29, 2022, HUD published a notice (87 FR 73317) announcing the TIAC membership. Thus, to strengthen HUD's engagement with Tribal Nations, HUD established its first Tribal advisory committee. The first in-person TIAC meeting was held on Wednesday, April 12, 2023, and Thursday, April 13, 2023, in Washington, DC. On September 27, 2023, and September 28, 2023, the second in-person meeting of the TIAC was held in Tucson, Arizona.

II. Upcoming Committee Meeting

The next in-person meeting of the TIAC will be Wednesday, May 15, 2024, and Thursday, May 16, 2024. On each day, the session will begin at approximately 9:00 a.m. (ET) and adjourn at approximately 5:00 p.m. (ET). The meeting will take place at the HUD Headquarters Building, 451 7th Street SW, Washington, DC 20410. The Committee will operate under the Tribal government statutory exemption to the Federal Advisory Committee Act (FACA) found in the Unfunded Mandates Reform Act (UMRA) at 2 U.S.C. 1534(b). Accordingly, participation in the meeting is limited to TIAC members. Members of the public may not formally participate in the meeting or make statements during the meeting.

III. Future Committee Meetings

Decisions with respect to future meetings will be made at the first meeting and from time to time thereafter. Notices of all future meetings will be published in the Federal Register. HUD will make every effort to publish such notices at least 30 calendar days prior to each meeting.

Richard Monocchio,
Principal Deputy Assistant Secretary for Public and Indian Housing.

[FR Doc. 2024-06636 Filed 3-27-24; 8:45 am]

BILLING CODE 4210-67-P